DEPARTMENT OF ENERGY

[Docket No. PP-334]

Notice of Availability of Draft Environmental Impact Statement and Public Hearings for the Proposed Energia Sierra Juarez U.S. Transmission Project (ESJ-U.S.)

AGENCY: U.S. Department of Energy.

ACTION: Notice of availability and public hearings.

SUMMARY: The Department of Energy (DOE) announces the availability of the “Draft Environmental Impact Statement for the Energia Sierra Juarez U.S. Transmission Line Project” (DOE/EIS-0414) for public comment. DOE also announces three public hearings to receive comments on the Draft EIS. The Draft EIS evaluates the environmental impacts of DOE's proposed Federal action of issuing a Presidential permit to Energia Sierra Juarez U.S. Transmission, LLC (ESJ-U.S.), for the construction, operation, maintenance, and connection of either a double-circuit 230-kilovolt (kV) or a single-circuit 500-kV electric transmission line that would cross the U.S.-Mexico border in the vicinity of Jacumba, California.

DATES: DOE invites interested members of Congress, State and local governments, other Federal agencies, American Indian tribal governments, organizations, and members of the public to provide comments on the Draft EIS during the 45-day public comment period. The public comment period starts on September 17, 2010, with the publication in the Federal Register by the U.S. Environmental Protection Agency of its Notice of Availability of the Draft EIS, and will continue until November 1, 2010. Written and oral comments will be given equal weight and all comments received or postmarked by that date will be considered by DOE in preparing the Final EIS. Comments received or postmarked after that date will be considered to the extent practicable.

Requests to speak at a specific public hearing should be received by Dr. Jerry Pell as indicated in the ADDRESSES section below on or before September 30, 2010.

ADDRESSES: Requests to speak at the public hearings should be addressed to: Dr. Jerry Pell, Office of Electricity Delivery and Energy Reliability (OE-20), U.S. Department of Energy, 1000 Independence Avenue, SW., Washington, DC 20585; Jerry.Pell@hq.doe.gov (preferred); or by facsimile to 202-318-7761. Requests to speak may also be made at the time of registration for the hearing(s). However, persons who have submitted advance requests to speak will be given priority if time should be limited during the hearing.

Written comments on the Draft EIS may be provided on the project EIS website at http://esjprojecteis.org (preferred) or addressed to Dr. Pell as indicated.

The locations, dates, and times of the public hearings appear in the Table below:

Draft EIS Public Hearings
Location | Day, date, time | Directions
Jacumba Highland Center, 44681 Old Highway 80, Jacumba, California 91934 | Tuesday, October 5, 2010, 7-9 p.m | From the West, take I-8 East and take Exit 73 toward Jacumba. Turn right (South) onto Carrizo Gorge Road and drive South 1.1 miles. Turn right at Old Highway 80. Jacumba Highland Center will be on the left hand side. From the East, take I-8 West and take Exit 73 toward Jacumba. Turn left (South) onto Carrizo Gorge Road and drive South 1.1 miles. Turn right at Old Highway 80. Jacumba Highland Center will be on the left hand side.
Boulevard Volunteer Fire Department, 39919 Highway 94, Boulevard, California 91905 | Wednesday, October 6, 2010, 7-9 p.m | From the West, take I-8 East and take the CA-94 Exit (Exit 65), toward Campo/Boulevard. Turn right (South) onto CA-94/Ribbonwood Road and drive South 0.5 miles. Boulevard Volunteer Fire Station will be on the left-hand side. From the East, take I-8 West and take the CA-94 Exit toward Boulevard/Manzanita. Turn left (South) onto CA-94/Ribbonwood Road and drive South 0.6 miles. Boulevard Volunteer Fire Station will be on the left-hand side.
County of San Diego Department of Planning and Land Use Planning Commission Hearing Room, 5201 Ruffin Road, Suite B, San Diego, CA 92123 | Thursday, October 7, 2010, 5-7 p.m | From Downtown, take Highway 163 North and take Exit 7B towards CA-274/Balboa Boulevard East. Turn left on Kearny Villa Road and take the 1st right on Balboa Boulevard. Drive East 1.0 mile and turn left on Ruffin Road. From the East, take I-8 East to I-15 North. Take Exit 10, Clairemont Mesa Boulevard. Drive 0.5 miles, turn left on Ruffin Road. From the North, take Highway 805 South, and take Exit 23 for CA-52. Take Exit 7 for Kearny Villa Road. Turn right on Kearny Villa Road, drive 400 feet, and continue onto Ruffin Road.

FOR FURTHER INFORMATION CONTACT: If you have any questions about the EIS or Presidential permit process, please contact Dr. Jerry Pell at the Office of Electricity Delivery and Energy Reliability (OE-20), U.S. Department of Energy, 1000 Independence Avenue, SW., Washington, DC 20585; Jerry.Pell@hq.doe.gov (preferred); telephone to 202-586-3362, or facsimile to 202-318-7761.

For general information on the DOE NEPA process, contact Carol M. Borgstrom, Director, Office of NEPA Policy and Compliance (GC-54), U.S. Department of Energy, 1000 Independence Avenue, SW., Washington, DC 20585, telephone: 202-586-4600 or leave a message at 800-472-2756; facsimile: 202-586-7031.

SUPPLEMENTARY INFORMATION: In order to ensure that all interested parties can be heard in the time available, speakers are asked to limit their presentation to three minutes; however, there is no limit on the amount of written material that can be submitted either at the hearings or otherwise before the close of the comment period.

The public hearings will consist of the formal taking of comments with transcription by a court stenographer. The hearings will provide interested parties the opportunity to view proposed project exhibits and make comments for consideration in the course of preparing the Final EIS. In advance of commencing the hearings, representatives from the applicant, DOE, and the County of San Diego as the cooperating agency will be available to informally (off the record) answer questions and provide additional information to attendees to the extent that additional information is available.

Availability of the Draft EIS

Copies of the Draft EIS have been distributed to appropriate Members of Congress, State and local government officials, American Indian tribal governments, and other Federal agencies, groups, and interested parties. Printed copies of the document may be obtained by contacting Dr. Pell at the above address. Copies of the Draft EIS and supporting documents are also available for inspection at the Jacumba Branch Library, 44605 Old Highway 80, Jacumba, CA 91934 and the Campo-Morena Village Branch Library, 31466 Highway 94, Campo, CA 91906. The Draft EIS is also available on the EIS Web site at http://esjprojecteis.org and on the DOE NEPA Web site at http://nepa.energy.gov/draft_environmental_impact_statements.htm.

Issued in Washington, DC, on September 13, 2010.
Anthony J. Como,
Director, Permitting and Siting, Office of Electricity Delivery and Energy Reliability.

[FR Doc. 2010-23244 Filed 9-16-10; 8:45 am]

BILLING CODE 6450-01-P